COMMITTEE FOR THE IMPLEMENTATION OF TEXTILE AGREEMENTS

Adjustment of Import Limits for Certain Cotton, Wool and Man-Made Fiber Textiles and Textile Products Produced or Manufactured in Indonesia; Correction

October 14, 2004.

In the letter to the Commissioner, Bureau of Customs and Border Protection published in the Federal Register on October 4, 2004 (69 FR 59207), on page 59208, in Column 2, in the table listing twelve-month restraint limits, please change the limit for 314-O from 108,441,116 square meters to 108,607,105 square meters. A letter has been sent to the Commissioner, Bureau of Customs and Border Protection to make the same change.

D. Michael Hutchinson,
Acting Chairman, Committee for the Implementation of Textile Agreements.

[FR Doc. E4-2725 Filed 10-19-04; 8:45 am]

BILLING CODE 3510-DR-S